DEPARTMENT OF HEALTH AND HUMAN SERVICES

Administration for Children and Families

Expedited OMB Review and Public Comment: Planned Use of Child Care and Development Fund Coronavirus Response and Relief Supplemental Appropriations Act, 2021 Funds Report

AGENCY: Office of Child Care, Administration for Children and Families, Department of Health and Human Services.

ACTION: Request for public comment.

SUMMARY: The Office of Child Care (OCC), Administration for Children and Families (ACF), U.S. Department of Health and Human Services (HHS), is requesting expedited review of an information collection request from the Office of Management and Budget (OMB). This information collection requires states, territories, and tribes to submit a one-time report summarizing their plans for using supplemental Child Care and Development Fund (CCDF) appropriations provided by the Coronavirus Response and Relief Supplemental Appropriations Act (CRRSA). Emergency approval is requested in order to meet the new statutory deadline required by CRRSA.

ADDRESSES: Copies of the collection of information can be obtained from, and written comments and recommendations related to this information collection may be submitted to, infocollection@acf.hhs.gov. All correspondence should identify the title of the information collection.

SUPPLEMENTARY INFORMATION:

Description: ACF is requesting that OMB grant a 60-day approval for this request under procedures for expedited processing. The information collection is to meet the requirement in CRRSA for states, territories, and tribes to report to the Secretary of the Department of Health and Human Services how they plan to spend supplemental CCDF appropriations to prevent, prepare for, and respond to the Coronavirus. States, territories, and tribes receiving these funds will submit a letter to the Director of OCC describing how they plan to spend funds based on the recommendations included in CRRSA. This is a one-time report.

Respondents: All state, territory, and tribal CCDF lead agencies.

Annual Burden Estimates
Instrument | Total number of respondents | Total number of responses per respondent | Average burden hours per response | Annual burden hours
Planned Use of CCDF CRRSA Funds Report | 321 | 1 | 2 | 642

Estimated Total Annual Burden Hours: 642.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Division M, Title III, Pub. L. 116-260.

Mary B. Jones,
ACF/OPRE Certifying Officer.

[FR Doc. 2021-02871 Filed 2-9-21; 11:15 am]

BILLING CODE 4184-43-P